DEPARTMENT OF COMMERCE

Foreign-Trade Zones Board

[B-15-2026]

Foreign-Trade Zone (FTZ) 93, Notification of Proposed Production Activity; General Electric Company; (Commercial Aerospace Propulsion Parts and Engine Cores); Durham, North Carolina

General Electric Company submitted a notification of proposed production activity to the FTZ Board (the Board) for its facility in Durham, North Carolina within FTZ 93. The notification conforming to the requirements of the Board's regulations (15 CFR 400.22) was received on February 3, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: aircraft engine cores; aircraft engine seal assemblies; base metal aircraft engine thermal blankets; aircraft engine retainer plates; aircraft engine fan stator assemblies; aircraft engine fan case assemblies; aircraft engine booster assemblies; aircraft engine hub assemblies; aircraft engine combustor diffuser nozzle assemblies; aircraft engine high pressure compressor rotor assemblies; aircraft engine high pressure nozzle assemblies; base metal aircraft engine blades; base metal aircraft engine disks; aircraft engine high pressure turbine rotor assemblies; aircraft engine interstage seals; aircraft engine rear rotating seals; aircraft engine front rotating seals; aircraft engine heat shields; aircraft engine boroscope plugs; aircraft engine plugs; base metal aircraft engine blisks; aircraft engine weights; aircraft engine balances; aircraft engine shrouds; aircraft engine manifolds; aircraft engine retainer tube assemblies; aircraft engine rings; aircraft engine connector links; aircraft engine clevises; aircraft engine tube assemblies; aircraft engine ducts; aircraft engine cowl assemblies; aircraft engine fuel nozzles; aircraft engine spools; aircraft engine fairings; aircraft engine panels; aircraft engine air ducts; aircraft engine sectors; aircraft engine fan cowls; aircraft engine inlet assemblies; aircraft engine module assemblies; aircraft engine base assemblies; aircraft engine spool assemblies; and, aircraft engine vane assemblies (duty rate is duty-free).

The proposed foreign-status materials/components include: plastic tubing, plastic pipes; plastic hoses; polyester adhesive decals; plastic caps; plastic stoppers; plastic handles; plastic knobs; plastic washers; plastic o-rings; plastic seals; plastic retainers; plastic blocks; plastic clamps; plastic bushings; plastic spacers; plastic straps; plastic strips; plastic sleeves; plastic covers; plastic grommets; plastic isolators; plastic dampers; plastic connectors; rubber seals; rubber washers; rubber gaskets; rubber pipe fittings; rubber flange connectors; rubber grommets; rubber blocks; wood packing boxes; wood packing cases; slag wool insulation blankets; slag wool insulation; slag wool shields; carbon fiber bushings; carbon fiber clamps; carbon fiber gaskets; carbon fiber seals; carbon fiber spacers; carbon fiber vanes; carbon fibers blades; graphite gaskets; graphite vanes; glass fiber insulation blankets; glass wool insulation blankets; glass fiber reinforced fasteners (fiber), glass fiber reinforced fasteners (woven), stainless steel rods; stainless steel bars; stainless steel threaded elbows; stainless steel threaded couplings; stainless steel threaded bends; stainless steel threaded sleeves; stainless steel pipe fittings; stainless steel tube fittings; steel oil tanks; iron nuts; steel nuts; iron threaded inserts; steel threaded inserts; steel locking washers; steel spring washers; steel flat washers; steel rivets; steel cotter pins; steel retaining rings; steel retaining rings; steel non threaded hardware; steel springs; steel safety spring wires; steel connectors for hoses; steel general purpose plugs; steel general purpose spacers; steel general purpose clamps; steel general purpose bushings; steel general purpose caps; steel general purpose sleeves; refined copper wires; copper stranded wires; nickel alloy cold formed wires; nickel tubes; nickel pipes; nickel tube fittings; nickel pipe fittings; nickel stranded wires; nickel screws; nickel bolts; nickel conduits; nickel couplings; nickel pins; nickel enclosures; nickel seals; nickel washers; nickel fittings; nickel connectors; nickel gears; nickel lockwire; nickel lugs; nickel nuts; nickel joints; nickel rings; nickel rivets; nickel rotors; nickel spacers; nickel springs; nickel studs; nickel clips; nickel thermocouples; nickel inserts; nickel tubes; nickel vanes; aluminum tube fittings; aluminum pipe fittings; aluminum oil tank; aluminum box; aluminum container; aluminum screws; aluminum caps; aluminum pins; aluminum washers; aluminum clamps; aluminum general purpose spacers; aluminum general purpose plugs; cobalt bolts; cobalt screws; cobalt pins; cobalt seals; cobalt spacers; titanium bolts; titanium screws; titanium pins; titanium seals; titanium spacers; titanium nuts; titanium washers; titanium connectors; base metal hinges; base metal mounting fixtures; base metal brackets; steel flexible tubing; iron flexible tubing; base metal blind rivets; base metal tubular rivets; base metal bifurcated rivets; base metal identification plates; power engines pools; power engine nozzle assemblies; base metal power engine supports; base metal power engine weights; power engines disks; power engines dampers; base metal power engine shims; power engine tube assemblies; power engine shrouds; base metal power engine sleeves; base metal power engine seals; base metal power engine segments; base metal power engine rings; base metal power engine blade retainers; base metal power engine vane retainers; base metal engine retainer seals; base metal power engine plugs; power engine blades; power engine manifolds; power engine fuel nozzle assemblies; linear acting hydraulic cylinders; pneumatic power engines; pneumatic power motors; reciprocating positive replacing pumps; rotary power replacement pumps; pump housings; pump covers; pump bodies; axial fans; centrifugal fans; cooling fans; blower assemblies; heat exchangers; fuel filters; oil separators; fuel separators; engine fluid filters; air filters; filter bodies; filter elements; filter cartridges; filter strainers; filter housings; lifting machine rings; lifting machine hooks; mechanical machines; oleo hydraulic valves; oleo pneumatic valves; check valves; safety relief valves; regulator valves; bodies of valves; ball bearings; spherical roller bearings; cylindrical roller bearings; roller bearing rings; roller bearing races; ball bearing rings; ball bearing races; transmission shafts; crank shafts; cam shafts; plain shaft bearings; aircraft engine gears; gearboxes tubes; gearboxes drain; gearbox covers; gearbox housings; multilayered metal gaskets; mechanical seals; base metal sheeting joints; electric motors; torque motors; torque generators; AC alternator generators; moto stator rings; generator stator rings; engine igniters; starter generators; electric fire alarms; electric smoke alarms; electronic engine control software; electrical circuit protectors; electrical switches; electrical plugs; junction boxes; electric terminals; programmable controllers; electrical switching apparatuses; flight recorders; flight sensors; flight recorders speed sensors; copper winding wires; coaxial cables; wiring harnesses; electrical cable with fitting; electrical cables; plastic insulating fittings; aircraft nacelles; aircraft thrust reversers; boroscope plugs; boroscope inspection tools; borescopes; navigation equipment; thermometers; flow meters; electrical pressure meters; measuring meters; checking meters; liquid heat pressure meters; pressure probes; measuring probes; checking probes; aircraft engine speedometers; aircraft engine tachometers; testing equipment; vibration sensors; testing probes automatic regulating instruments; controlling instruments; hydro-mechanical units; and, hydro-mechanical units sensors (duty rate ranges from duty-free to 15%).

The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232, and section 301 decisions require subject merchandise to be admitted to FTZs in privileged foreign status (19 CFR 146.41).

Public comment is invited from interested parties. Submissions shall be addressed to the Board's Executive Secretary and sent to: ftz@trade.gov. The closing period for their receipt is March 23, 2026.

A copy of the notification will be available for public inspection in the “Online FTZ Information System” section of the Board's website.

For further information, contact Brian Warnes at brian.warnes@trade.gov.

Dated: February 6, 2026.
Elizabeth Whiteman,
Executive Secretary.

[FR Doc. 2026-02774 Filed 2-10-26; 8:45 am]

BILLING CODE 3510-DS-P